ENVIRONMENTAL PROTECTION AGENCY

[FRL-10918-01-OAR]

Proposed Information Collection Request; Comment Request; Information Collection Request for the Greenhouse Gas Reporting Program

AGENCY: Environmental Protection Agency (EPA).

ACTION: Notice.

SUMMARY: The Environmental Protection Agency (EPA) is planning to submit an information collection request (ICR), “Information Collection Request for the Greenhouse Gas Reporting Program” (EPA ICR No. 2300.20, OMB Control No. 2060-0629) to the Office of Management and Budget (OMB) for review and approval in accordance with the Paperwork Reduction Act. Before doing so, EPA is soliciting public comments on specific aspects of the proposed information collection as described below. This is a proposed extension of the ICR, which is currently approved through March 31, 2024. An Agency may not conduct or sponsor and a person is not required to respond to a collection of information unless it displays a currently valid OMB control number.

DATES: Comments must be submitted on or before July 3, 2023.

ADDRESSES: Submit your comments, referencing Docket ID No. EPA-HQ-OAR-2022-0883, online using www.regulations.gov (our preferred method), or by mail to: EPA Docket Center, Environmental Protection Agency, Mail Code 28221T, 1200 Pennsylvania Avenue NW, Washington, DC 20460.

EPA's policy is that all comments received will be included in the public docket without change including any personal information provided, unless the comment includes profanity, threats, information claimed to be Confidential Business Information (CBI), or other information whose disclosure is restricted by statute.

FOR FURTHER INFORMATION CONTACT: Joe Ford, Climate Change Division, Office of Atmospheric Protection, Office of Air and Radiation (MAIL CODE 6207A), Environmental Protection Agency, 1200 Pennsylvania Ave. NW, Washington, DC 20460; telephone number: 202-564-7659; fax number: 202-343-2342; email address: GHGReporting@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At the time, EPA will issue another Federal Register notice to announce the submission of the ICR to OMB and the opportunity to submit additional comments to OMB.

Abstract: In response to the FY2008 Consolidated Appropriations Act (H.R. 2764; Pub. L. 110-161) and under authority of the Clean Air Act, the EPA finalized the Mandatory Reporting of Greenhouse Gases Rule (GHG Reporting Rule) (74 FR 56260; October 30, 2009). The GHG Reporting Rule, which became effective on December 29, 2009, establishes reporting requirements for certain large facilities and suppliers. It does not require control of greenhouse gases. Instead, it requires that sources emitting greenhouse gases, supplying certain products that contain greenhouse gases, or injecting carbon dioxide (CO2) underground in quantities above certain threshold levels of carbon dioxide equivalent (CO2 e) monitor and report their annual emissions.

Subsequent rules have promulgated requirements for additional facilities, suppliers, and mobile sources; provided clarification and corrections to existing requirements; finalized confidentiality business information (CBI) determinations, amended recordkeeping requirements, and implemented an alternative verification approach. Collectively, the GHG Reporting Rule and its associated rulemakings are referred to as the Greenhouse Gas Reporting Program (GHGRP).

The purpose for this ICR is to renew and revise the GHG Reporting Rule ICR to update and consolidate the burdens and costs imposed by the current ICR under the GHGRP.

Form Numbers: None.

Respondents/affected entities: Facilities emitting GHGs, supplying certain products that contain GHGs, or injecting carbon dioxide (CO2) underground in quantities above certain threshold levels of CO2 equivalent (CO2e).

Respondent's obligation to respond: Mandatory (42 U.S.C. 7401-7671q.).

Estimated number of respondents (annual average): 12,434.

Frequency of response: Annually.

Total estimated burden: 705,554 hours per year.

Total estimated cost: $95,175,521 per year.

Changes in Estimates: There is a decrease of 34,458 hours in the total estimated respondent burden compared with that identified in the last ICR renewal. Furthermore, the annual public reporting and recordkeeping burden for this collection of information is estimated to average 0.07 hours per response. The last ICR estimated an average burden of 0.08 hours per response. This change in burden reflects an adjustment in the number of respondents from projected to actual, an adjustment of labor rates and capital and O&M costs to reflect 2021 dollars. Burden means the total time, effort, or financial resources expended by persons to generate, maintain, retain, or disclose or provide information to or for a federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Sharyn Lie,
Acting Director, Climate Change Division, Office of Atmospheric Protection, Office of Air and Radiation.

[FR Doc. 2023-09524 Filed 5-3-23; 8:45 am]

BILLING CODE 6560-50-P